OFFICE OF PERSONNEL MANAGEMENT

Public Availability of FY 2013 Service Contract Inventories

AGENCY: U.S. Office of Personnel Management.

ACTION: Notice.

SUMMARY: In accordance with Section 743 of Division C of the Consolidated Appropriations Act of 2010 (Pub. L. 111-117), the U.S. Office of Personnel Management is publishing this notice to advise the public of the availability of the FY 2013 Service Contract Inventory. This inventory provides information on FY 2013 service contract actions over $25,000. The information is organized by function to show how contracted resources are distributed throughout the agency. The inventory has been developed in accordance with guidance issued on November 5, 2010, by the Office of Management and Budget's Office of Federal Procurement Policy (OFPP). OFPP's guidance is available at http://www.whitehouse.gov/sites/default/files/omb/procurement/memo/service-contract-inventories-guidance-11052010.pdf. The U.S. Office of Personnel Management has posted its inventory and a summary of the inventory on the Office of Personnel Management's homepage at the following link: http://www.opm.gov/about-us/doing-business-with-opm/contracting-opportunities/#url=Business-Opportunities.

FOR FURTHER INFORMATION CONTACT: William Neal Patterson at (202) 606-1984 or by mail at U.S. Office of Personnel Management, 1900 E. Street NW., Washington, DC 20415. Please cite “2013 Service Contract Inventory” in all correspondence.

U.S. Office of Personnel Management.
Katherine Archuleta,
Director.

[FR Doc. 2014-27951 Filed 11-24-14; 8:45 am]

BILLING CODE 6325-44-P